DEPARTMENT OF TRANSPORTATION

Federal Aviation Administration

14 CFR Part 39

[Docket No. FAA-2015-3656; Directorate Identifier 2015-CE-027-AD; Amendment 39-18259; AD 2015-18-01]

RIN 2120-AA64

Airworthiness Directives; Vulcanair S.p.A. Airplanes

AGENCY: Federal Aviation Administration (FAA), DOT.

ACTION: Final rule; request for comments.

SUMMARY: We are adopting a new airworthiness directive (AD) for Vulcanair S.p.A. Model P.68R airplanes. This AD results from mandatory continuing airworthiness information (MCAI) issued by the aviation authority of another country to identify and correct an unsafe condition on an aviation product. The MCAI describes the unsafe condition as a discrepancy in the climb performance reported in the airplane flight manual and in the actual performance of the airplane. We are issuing this AD to require actions to address the unsafe condition on these products.

DATES: This AD is effective September 22, 2015.

The Director of the Federal Register approved the incorporation by reference of certain publications listed in the AD as of September 22, 2015.

We must receive comments on this AD by October 19, 2015.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Vulcanair S.p.A., Via Giovanni Pascoli 80026 Casoria NA Italy; telephone: +39 081 5918111; fax: +39 081 5918172; Internet: http://www.vulcanair.com/technical-support; email: continued.airworthiness@vulcanair.com. You may view this referenced service information at the FAA, Small Airplane Directorate, 901 Locust, Kansas City, Missouri 64106. For information on the availability of this material at the FAA, call (816) 329-4148. It is also available on the Internet at http://www.regulations.gov by searching for Docket No. FAA-2015-3656.

Examining the AD Docket

You may examine the AD docket on the Internet at http://www.regulations.gov by searching for and locating Docket No. FAA-2015-3656; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Mike Kiesov, Aerospace Engineer, FAA, Small Airplane Directorate, 901 Locust, Room 301, Kansas City, Missouri 64106; telephone: (816) 329-4144; fax: (816) 329-4090; email: mike.kiesov@faa.gov.

SUPPLEMENTARY INFORMATION:

Discussion

The European Aviation Safety Agency (EASA), which is the Technical Agent for the Member States of the European Community, has issued AD No.: 2015-0145, dated July 21, 2015 (referred to after this as “the MCAI”), to correct an unsafe condition for the specified products. The MCAI states:

During a recent flight test campaign to evaluate the performance and handling characteristics of a P.68R aeroplane in support of an STC application, differences were noticed between the climb performance reported in the applicable Aircraft Flight Manual (AFM) and the performance demonstrated during those tests.

Prompted by these findings, further flight tests performed by Vulcanair confirmed that the All Engines Operative (AEO) rate of climb (ROC) performance, as published in the current revision of the applicable AFMs, is incorrect.

This condition, if not corrected, could lead to over-estimation of AEO ROC, possibly resulting in impact with terrain or obstacle due to erroneous evaluation of aeroplane climb performance.

To address this potential unsafe condition, Vulcanair S.p.A. revised the applicable AFMs, informing operators with Service Bulletin (SB) No. 244.

For the reason described above, this AD requires revising applicable AFM.

You may examine the MCAI on the Internet at http://www.regulations.gov by searching for and locating Docket No. FAA-2015-3656.

Relevant Service Information Under 1 CFR Part 51

Vulcanair S.p.A. has issued Vulcanair Aircraft P.68 Variants Mandatory Service Bulletin No. 244, dated April 24, 2015. The actions described in this service information are intended to correct the unsafe condition identified in the MCAI. The service information describes procedures for replacing the applicable airplane flight manual with its latest revision including the changes related to the airplane's rate of climb performance.

Pages 5-1 through 5-34, in Section 5, Revision 27, dated April 23, 2015, of the Vulcanair Aircraft P.68R POH/AFM, NOR10.707-30C, Revision 17, dated July 22, 2013 and pages 1 through 42, in Supplement F, in Section 8, Revision 27, dated April 23, 2015, of the Vulcanair Aircraft P.68R POH/AFM, NOR10.707-30C, Revision 17, dated July 22, 2013, detailing changes related to the airplane's rate of climb performance, are the applicable airplane flight manual latest revision replacement pages required by Vulcanair Aircraft P.68 Variants Mandatory Service Bulletin No. 244, dated April 24, 2015.

This service information is reasonably available because the interested parties have access to it through their normal course of business or by the means identified in the ADDRESSES section of this AD.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because differences have been found between the climb performance reported in the applicable aircraft flight manual (AFM) and the performance demonstrated during test flights. This condition, if not corrected, could result in over-estimation of the airplane's rate of climb, resulting in impact with obstructions or terrain. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2015-3656; Directorate Identifier 2015-CE-027-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 1 product of U.S. registry. We also estimate that it would take about 1 work-hour per product to comply with the basic requirements of this AD. The average labor rate is $85 per work-hour.

Based on these figures, we estimate the cost of the AD on U.S. operators to be $85, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2015-18-01 Vulcanair S.p.A.: Amendment 39-18259; Docket No. FAA-2015-3656; Directorate Identifier 2015-CE-027-AD.

(a) Effective Date

This airworthiness directive (AD) becomes effective September 22, 2015.

(b) Affected ADs

None.

(c) Applicability

This AD applies to Vulcanair S.p.A. Models P.68R airplanes, serial numbers 458/R and subsequent, certificated in any category.

(d) Subject

Air Transport Association of America (ATA) Code 34: Navigation.

(e) Reason

This AD was prompted by mandatory continuing airworthiness information (MCAI) issued by the aviation authority of another country to identify and correct an unsafe condition on an aviation product. The MCAI describes the unsafe condition as a discrepancy in the climb performance reported in the airplane flight manual (AFM) and/or pilots operating handbook (POH) in the actual performance of the airplane. We are issuing this AD to correct the AFM by inserting the proper climb performance data into the manual, which if not corrected could result in over-estimation of the airplane's rate of climb, resulting in impact with obstructions or terrain.

(f) Actions and Compliance

Unless already done, within 30 days after the effective date of this AD, insert pages 5-1 through 5-34, into Section 5, Revision 27, dated April 23, 2015, of the Vulcanair Aircraft P.68R POH/AFM, NOR10.707-30C, Revision 17, dated July 22, 2013; and pages 1 through 42, into Supplement F, in Section 8, Revision 27; dated April 23, 2015, of the Vulcanair Aircraft P.68R POH/AFM, NOR10.707-30C, Revision 17, dated July 22, 2013, following the instructions in Vulcanair Aircraft P.68 Variants Mandatory Service Bulletin No. 244, dated April 24, 2015.

(g) Other FAA AD Provisions

The following provisions also apply to this AD:

(1) Alternative Methods of Compliance (AMOCs): The Manager, Standards Office, FAA, has the authority to approve AMOCs for this AD, if requested using the procedures found in 14 CFR 39.19. Send information to ATTN: Mike Kiesov, Aerospace Engineer, FAA, Small Airplane Directorate, 901 Locust, Room 301, Kansas City, Missouri 64106; telephone: (816) 329-4144; fax: (816) 329-4090; email: mike.kiesov@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2015-0145, dated July 21, 2015, for related information. You may examine the MCAI on the Internet at http://www.regulations.gov by searching for and locating Docket No. FAA-2015-3656.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Vulcanair Aircraft P.68 Variants Mandatory Service Bulletin No. 244, dated April 24, 2015.

(ii) Pages 5-1 through 5-34, in Section 5, Revision 27, dated April 23, 2015, of the Vulcanair Aircraft P.68R POH/AFM, NOR10.707-30C, Revision 17, dated July 22, 2013.

(iii) Pages 1 through 42, in Supplement F, in Section 8, Revision 27; dated April 23, 2015; of the Vulcanair Aircraft P.68R POH/AFM, NOR10.707-30C, Revision 17, dated July 22, 2013.

(3) For Vulcanair service information identified in this AD, contact Vulcanair S.p.A., Via Giovanni Pascoli 80026 Casoria NA Italy; telephone: +39 081 5918111; fax: +39 081 5918172; Internet: http://www.vulcanair.com/technical-support; email: continued.airworthiness@vulcanair.com.

(4) You may view this service information at the FAA, Small Airplane Directorate, 901 Locust, Kansas City, Missouri 64106. For information on the availability of this material at the FAA, call (816) 329-4148. It is also available on the Internet at http://www.regulations.gov by searching for locating Docket No. FAA-2015-3656.

(5) You may view this service information that is incorporated by reference at the National Archives and Records Administration (NARA). For information on the availability of this material at NARA, call 202-741-6030, or go to: http://www.archives.gov/federal-register/cfr/ibr-locations.htm l.

Issued in Kansas City, Missouri on August 21, 2015.
Earl Lawrence,
Manager, Small Airplane Directorate, Aircraft Certification Service.

[FR Doc. 2015-21444 Filed 9-1-15; 8:45 am]

BILLING CODE 4910-13-P